ENVIRONMENTAL PROTECTION AGENCY

[ER-FRL-6685-8]

Environmental Impacts Statements; Notice of Availability

Responsible Agency: Office of Federal Activities, General Information (202) 564-7167 or http://www.epa.gov/compliance/nepa/ Weekly receipt of Environmental Impact Statements Filed 04/02/2007 through 04/06/2007 Pursuant to 40 CFR 1506.9.

EIS No. 20070135, Final EIS, AFS, ID, White/White Analysis Project, Preferred Alternative is 4, Vegetative Management and Watershed Improvement, Lolo Creek, Chamook Creek, White Creek, Mike White Creek, Nevada Creek, and Utah Creek, Lochsa Ranger District, Clearwater National Forest, Idaho and Clearwater County, ID, Wait Period Ends: 05/14/2007, Contact: Steve Bess 208-926-4274.

EIS No. 20070136, Final EIS, COE, CA, Hemet/San Jacinto Integrated Recharge and Recovery Program, Construction and Operation, U.S. Army COE Section 404 Permit, Riverside County, CA, Wait Period Ends: 05/14/2007, Contact: Dr. Daniel Swenson 213-452-3414.

EIS No. 20070137, Final EIS, AFS, ID, Aspen Range Timber Sale and Vegetation Treatment Project, Preferred Alternative is 5, Proposal to Treat Forested and Nonforested Vegetation, Caribou-Targhee National Forest, Soda Springs Ranger District, Caribou County, ID, Wait Period Ends: 05/14/2007, Contact: Doug Heyrend 208-547-4356.

EIS No. 20070138, Final EIS, NPS, OH, Dayton Aviation Heritage National Historical Park, General Management Plan Amendment, Implementation, Dayton, OH, Wait Period Ends: 05/14/2007, Contact: Lawrence Blake 937-225-7705.

EIS No. 20070139, Final EIS, MMS, 00, Gulf of Mexico Outer Continental Shelf Oil and Gas Lease Sales: 2007-2012 Western Planning Area Sales 204, 207, 210, 215, and 218: Central Planning Area Sales 205, 206, 208, 213, 216, and 222, TX, LA, MS, AL and Fl, Wait Period Ends: 05/14/2007, Contact: Dr. Mary Boatman 703-787-1662.

EIS No. 20070140, Draft EIS, NOA, 00, Programmatic—Toward an Ecosystem Approach for the Western Pacific Region: From Species-Based Fishery Management Plans to Place-Based Fishery Ecosystem Plans, Bottomfish and Seamount Groundfish, Coral Reef Ecosystems, Crustaceans, Precious Corals, Pelagics, Implementation, American Samoa, Commonwealth of the Northern Mariana Islands, Hawaii, U.S. Pacific Remote Island Area, Comment Period Ends: 05/29/2007, Contact: William Robinson 808-973-2200.

EIS No. 20070141, Draft EIS, UAF, MA, Final Recommendations and Associated Actions for the 104th Fighter Wing Massachusetts Air National Guard, Base Realignment and Closure, Implementation, Westfield-Barnes Airport, Westfield, MA, Comment Period Ends: 06/01/2007, Contact: Robert Dogan 301-836-8859.

EIS No. 20070142, Final EIS, BLM, WY, Maysdorf Coal Lease by Application (LBA) Tract, (Federal Coal Application WYW154432), Implementation, Campbell Counties, WY, Wait Period Ends: 05/14/2007, Contact: Nancy Doelger 307-261-7627.

EIS No. 20070143, Final EIS, WPA, SD, White Wind Farm Project, Construct a Large Utility-Scale Wind-Powered Electric Energy Generating Facility, Sherman Township, Brookings County, SD, Wait Period Ends: 05/14/2007, Contact: Catherine Cunningham 720-962-7260.

Amended Notices

EIS No. 20070003, Draft EIS, AFS, AK, Tongass Land and Resource Management Plan, Plan Amendment, Implementation, Tongass National Forest, AK, Comment Period Ends: 04/30/2007, Contact: Lee Kramer 907-586-8811, Ext 225, Revision to FR Notice Published 01/12/2007: Extending Comment Period from 4/10/2007 to 04/30/2007.

Dated: April 10, 2007.
Ken Mittelholtz,
Environmental Protection Specialist, Office of Federal Activities.

[FR Doc. E7-7021 Filed 4-12-07; 8:45 am]

BILLING CODE 6560-50-P